INTERNATIONAL TRADE COMMISSION

[USITC SE-11-012]

Government in the Sunshine Act Meeting Notice

AGENCY HOLDING THE MEETING: United States International Trade Commission.

TIME AND DATE: May 16, 2011 at 11 a.m.

PLACE: Room 110, 500 E Street, SW., Washington, DC 20436, Telephone: (202) 205-2000.

STATUS: Open to the public.

MATTERS TO BE CONSIDERED: 1. Agendas for future meetings: none.

2. Minutes.

3. Ratification List.

4. Vote in Inv. Nos. 701-TA-479 and 731-TA-1183-1184 (Preliminary) (Galvanized Steel Wire from China and Mexico). The Commission is currently scheduled to transmit its determinations to the Secretary of Commerce on or before May 16, 2011; Commissioners' opinions are currently scheduled to be transmitted to the Secretary of Commerce on or before May 23, 2011.

5. Vote in Inv. No. 731-TA-1185 (Preliminary)(Certain Steel Nails from the United Arab Emirates). The Commission is currently scheduled to transmit its determination to the Secretary of Commerce on or before May 16, 2011; Commissioners' opinions are currently scheduled to be transmitted to the Secretary of Commerce on or before May 23, 2011.

6. Vote in Inv. Nos. 731-TA-1186 and 1187 (Preliminary) (Certain Stilbenic Optical Brightening Agents from China and Taiwan). The Commission is currently scheduled to transmit its determinations to the Secretary of Commerce on or before May 16, 2011; Commissioners' opinions are currently scheduled to be transmitted to the Secretary of Commerce on or before May 23, 2011.

7. Outstanding action jackets: none.

In accordance with Commission policy, subject matter listed above, not disposed of at the scheduled meeting, may be carried over to the agenda of the following meeting.

Issued: May 3, 2011.
By order of the Commission:
William R. Bishop,
Hearings and Meetings Coordinator.

[FR Doc. 2011-11227 Filed 5-4-11; 4:15 pm]

BILLING CODE 7020-02-P